FEDERAL COMMUNICATIONS COMMISSION

[Report No. 2379]

Petitions for Reconsideration and Clarification of Action in Rulemaking Proceedings

January 12, 2000.

Petitions for Reconsideration have been filed in the Commission's rulemaking proceedings listed in this Public Notice and published pursuant to 47 CFR Section 1.429(e). The full text of these documents are available for viewing and copying in Room CY-A257, 445 12th Street, SW., Washington, DC or may be purchased from the Commission's copy contractor, ITS, Inc. (202) 857-3800. Oppositions to these petitions must be filed by February 7, 2000. See Section 1.4(b)(1) of the Commission's rules (47 CFR 1.4(b)(1)). Replies to an opposition must be filed within 10 days after the time for filing oppositions has expired.

Subject: Federal-State Joint Board on Universal Service (CC Docket No. 96-45).

Forward Looking Mechanism for High Cost Support for Non-Rural LECs (CC Docket No. 97-160).

Implementation of the Local Competition Provisions of the Telecommunications Act of 1996 (CC Docket No. 96-98).

Number of Petitions Filed: 11.

Subject: Celtronix Telemetry, Inc. (WT Docket No. 98-169, RM-8951).

Application of Bidding Credits in the Interactive Video and Data Services Auction.

Amendment of Part 95 of the Commission's Rules to Provide Flexibility in the 218-219 MHz Service.

Number of Petitions Filed: 6.

Federal Communications Commission.
Magalie Roman Salas,
Secretary.

[FR Doc. 00-1443 Filed 1-20-00; 8:45 am]

BILLING CODE 6712-01-M